RAILROAD RETIREMENT BOARD

Sunshine Act Meeting Notice

Notice is hereby given that the Railroad Retirement Board will hold a meeting on January 18, 2012, 10 a.m. at the Board's meeting room on the 8th floor of its headquarters building, 844 North Rush Street, Chicago, Illinois, 60611. The agenda for this meeting follows:

Portion open to the public:

(1) Executive Committee Reports.

The person to contact for more information is Martha P. Rico, Secretary to the Board, Phone No. (312) 751-4920.

Dated: January 4, 2012.
Martha P. Rico,
Secretary to the Board.

[FR Doc. 2012-299 Filed 1-6-12; 11:15 am]

BILLING CODE 7905-01-P